DEPARTMENT OF THE DEFENSE

Department of the Army Corps of Engineers

Notice of Intent To Prepare an Environmental Impact Statement and Conduct a Public Scoping Meeting for the Marlinton Local Protection Project, Marlinton, Pocahontas County, West Virginia

AGENCY: U.S. Army Corps of Engineers, DoD.

ACTION: Notice.

SUMMARY: Pursuant to the National Environmental Policy Act (NEPA), the U.S. Army Corps of Engineers, DoD, Huntington District will prepare an Environmental Impact Statement (EIS). The EIS will evaluate potential impacts to the natural, physical, and human environment as a result of the proposed flood damage reduction measure for the City of Marlinton, Pocahontas County, West Virginia (Marlinton Local Protection Project). The proposed project would consist of a levy along the banks of the Greenbrier River and two alternative measures for managing flooding from Knapp Creek. A public scoping meeting is announced for April 11, 2000, from 7:00-10:00 pm in the Marlinton City Hall Auditorium, Marlinton, Pocahontas County, West Virginia.

ADDRESSES: Send written comments and suggestions concerning this proposed project to Nicholas E. Krupa PD-R, U.S. Army Corps of Engineers, Huntington District, 502 Eighth Street, Huntington, West Virginia, 25701-2070. Telephone: 304-529-5712. Electronic mail: nickk@lrh.usace.army.mil. Requests to be placed on the mailing list should also be sent to this address.

FOR FURTHER INFORMATION CONTACT: To obtain additional information about the proposed project, contact Curt Murdock PM-P, U.S. Army Corps of Engineers, Huntington District, 502 Eighth Street, Huntington, West Virginia, 25701-2070. Telephone: 304-528-7444. Electronic mail: curt.e.murdock@lrh01.usace.army.mil.

SUPPLEMENTARY INFORMATION:

1. Public Participation

a. The Corps of Engineers will conduct a public scoping meeting to gain input from interested agencies, organizations, and the general public concerning the content of the EIS, issues and impacts to be addressed in the EIS, and alternatives that should be analyzed. The meeting is scheduled for:

Date: April 11, 2000.

Time: 7:00-10:00 pm.

Place: The Marlinton City Hall Auditorium, Marlinton, Pocahontas County, West Virginia.

b. The Corps invites full public participation to promote open communication and better decision-making. All persons and organizations that have an interest in the Greenbrier River flooding problems as they effect the community of Marlinton, West Virginia and the affected environment are urged to participate in this NEPA environmental analysis process. Assistance will be provided upon request to anyone having difficulty with learning how to participate.

c. Public comments are welcomed anytime throughout the NEPA process. Formal opportunities for public participation include: (1) Public meetings to be held near the community of Marlinton; (2) Anytime during the NEPA process via mail, telephone or e-mail; (3) During Review and Comment on the Draft EIS—approximately July to October 2001; and, (4) Review of the Final EIS —winter 2001-02. Schedules and locations will be announced in local news media. Interested parties may also request to be included on the mailing list for public distribution of meeting announcements and documents. (See ADDRESSES).

d. To ensure that all issues related to the proposed project are addressed, the Corps will conduct an open process to define the scope of the EIS. Recommendations from interested agencies, local and regional stakeholders and the general public are encouraged to provide input in identifying areas of concern, issues and impacts to be addressed in the EIS, and the alternatives that should be analyzed. Scoping for the DEIS will continue to build upon the knowledge and information developed during the more than 20 years of Corps of Engineer investigations of flooding in the Greenbrier watershed.

2. Background

a. Flooding has played a significant role in the history of Marlinton. Virtually the entire town lies within the 100-year floodplain of the Greenbrier River. Approximately 465 structures (both residential and nonresidential) in Marlinton stand within the 100-year floodplain. Potential annual damages for this reach are estimated to be $1.8 million (1997 dollars). Located near the headwaters of the Greenbrier, warning times for floods in Marlinton are short, yet flood flows can be significant because of the large drainage area.

b. The largest known floods in the basin occurred in 1812, 1877, 1985, and 1996. At least eleven other major, but less severe, floods occurred in the 20th centruy. In November 1985, the flood of record for the upper portion of the basin occurred, resulting in five deaths. This event caused an estimated $97 million (1997 dollars) in damages basin-wide, with approximately $20 million (1997 dollars) occurring in Marlinton alone. The most recent major flood occurred in January 1996 and was approximately 1.5 feet lower than the 1985 event in Marlinton, but still caused widespread destruction.

c. Section 579 of the 1996 Water Resources Development Act specifically authorized the Corps to again consider local protection plans that would include such measures as floodwalls, levees, channelization and small tributary impoundments along with the nonstructural plans. The Greenbrier Limited Feasibility Study, completed in 1997 by the Huntington District Corps, evaluated alternatives for three major damage centers, including Marlinton. The 1997 study reevaluated the economic analysis of structural alternatives using more accurate property evaluation data. Three feasible alternatives emerged from the 1997 study for local flood protection at Marlinton. These are:

d. Alternative 1—An earthen levee/concrete floodwall combination to protect Marlinton, and an earthen levee to protect Riverside. The Marlinton levee will begin at high ground 200 feet north, or at the end of First Avenue, and run 6,000 feet along the Greenbrier River to Knapp Creek, and then 2,900 feet up Knapp Creek to the vicinity of the water plant. From this point, a 1,000-foot long floodwall would continue to the protection along Knapp Creek. A 600-foot levee would run from the end of the floodwall to high ground in the vicinity of Wilson's field. Marlin Run, which flows into Knapp Creek and which would be blocked by the proposed levee, would be re-routed to a point upstream of the end of the levee to avoid the need for a pump station. The 5,000-foot long Riverside levee would begin at high ground in the vicinity of Campbelltown, and run along Stoney Creek to the Greenbrier. Along the Greenbrier River, the levee would run to high ground in the vicinity of Burns Motor Freight. The Riverside levee would be required because the Marlinton protection would increase flood heights in the Riverside area.

e. Alternative 2—An earth levee/concrete floodwall combination and a diversion of Knapp Creek to protect Marlinton, and an earth levee to protect Riverside. The Marlinton levee would be the same as in Alternative 1 along the Greenbrier River to Knapp Creek. From that point along Knapp Creek, the levee would then cross Knapp Creek and run 800 feet to high ground. Three, gated culverts would run through this structure at Knapp Creek. A pump station would be mounted on the levee in close proximity. When the level of the Greenbrier River reaches a set point, the culvert gates would close and pumping of Knapp Creek to the Greenbrier River would occur. A 2,200-foot long diversion channel would be cut through Buckley Mountain, from a point approximately 1 mile upstream of the mouth of Knapp Creek to a point on the Greenbrier River 2000 feet downstream of their confluence. This channel diversion would carry Knapp Creek flood flows away from Marlinton. In conjunction with the channel diversion, an 800-foot long, 25foot-high concrete dam would be built across Knapp Creek just downstream of the channel diversion.

f. Alternative 3—Nonstructural plan for both Marlinton and Riverside. The nonstructural plan for the Marlinton/Riverside area involves the raising in place of 260 residential and 5 nonresidential structures and the acquisition of 10 residential structures and 145 nonresidential structures.

g. These alternatives, along with the no-action will be the alternatives the Corps initially proposes to evaluate in the EIS. As necessary, any reasonable alternatives that may become apparent as the evaluation proceeds will be addressed.

Gregory D. Showalter,
Army Federal Register Liaison Officer.

[FR Doc. 00-7390 Filed 3-24-00; 8:45 am]

BILLING CODE 3710-GM-U